DEPARTMENT OF ENERGY

Federal Energy Regulatory Commission

Combined Notice of Filings #1

Take notice that the Commission received the following electric corporate filings:

Docket Numbers: EC17-67-000.

Applicants: Moapa Southern Paiute Solar, LLC.

Description: Application for Authorization Under Section 203 of the FPA for the Disposition of Jurisdictional Facilities, Request for Shortened Comment Period, Expedited Consideration and Confidential Treatment of Moapa Southern Paiute Solar, LLC.

Filed Date: 1/24/17.

Accession Number: 20170124-5183.

Comments Due: 5 p.m. ET 2/14/17.

Take notice that the Commission received the following electric rate filings:

Docket Numbers: ER16-277-006.

Applicants: Talen Energy Marketing, LLC.

Description: Report Filing: Refund Report to be effective N/A.

Filed Date: 1/24/17.

Accession Number: 20170124-5133.

Comments Due: 5 p.m. ET 2/14/17.

Docket Numbers: ER17-801-001.

Applicants: Constellation Power Source Generation, LLC.

Description: Tariff Amendment: Amended Cost Support and Amended Rate Schedules to be effective 3/1/2017.

Filed Date: 1/25/17.

Accession Number: 20170125-5151.

Comments Due: 5 p.m. ET 2/15/17.

Docket Numbers: ER17-848-000.

Applicants: Iron Horse Battery Storage, LLC.

Description: Baseline eTariff Filing: Application for Market Based Rate to be effective 2/21/2017.

Filed Date: 1/24/17.

Accession Number: 20170124-5178.

Comments Due: 5 p.m. ET 2/14/17.

Docket Numbers: ER17-849-000.

Applicants: AEP Indiana Michigan Transmission Company, Inc., PJM Interconnection, L.L.C.

Description: § 205(d) Rate Filing: AEP submits Original CIAC, SA No. 4614 between NIPSCO and AEP I-M Transmission to be effective 1/25/2017.

Filed Date: 1/24/17.

Accession Number: 20170124-5179.

Comments Due: 5 p.m. ET 2/14/17.

Docket Numbers: ER17-850-000.

Applicants: Louisville Gas and Electric Company.

Description: § 205(d) Rate Filing: ITO Agreement 2017-2022 Att. Q to be effective 9/1/2017.

Filed Date: 1/25/17.

Accession Number: 20170125-5028.

Comments Due: 5 p.m. ET 2/15/17.

Docket Numbers: ER17-851-000.

Applicants: PJM Interconnection, L.L.C.

Description: § 205(d) Rate Filing: Amendment to ISA No. 1727, Queue No. Z1-097 to be effective 12/9/2014.

Filed Date: 1/25/17.

Accession Number: 20170125-5133.

Comments Due: 5 p.m. ET 2/15/17.

Docket Numbers: ER17-852-000.

Applicants: PJM Interconnection, L.L.C.

Description: § 205(d) Rate Filing: Amendment to ISA No. 3763, Queue No. Z2-112 to be effective 7/1/2015.

Filed Date: 1/25/17.

Accession Number: 20170125-5145.

Comments Due: 5 p.m. ET 2/15/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 25, 2017.
Nathaniel J. Davis, Sr.,
Deputy Secretary.

[FR Doc. 2017-02039 Filed 1-30-17; 8:45 am]

BILLING CODE 6717-01-P